DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2014, through August 31, 2014. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: September 19, 2014.
Mary K. Wakefield,
Administrator.

List of Petitions Filed

1. Patricia Trujillo, Espanola, New Mexico, Court of Federal Claims No: 14-0692V

2. Rebecca Russell, Birmingham, Alabama, Court of Federal Claims No: 14-0693V

3. Michael Phillips, Alpena, Michigan, Court of Federal Claims No: 14-0694V

4. Mark Lattimore, Oro Valley, Arizona, Court of Federal Claims No: 14-0695V

5. Mary Schoeberlein, Baltimore, Maryland, Court of Federal Claims No: 14-0697V

6. Lisa Otto on behalf of A.O., Dallas, Texas, Court of Federal Claims No: 14-0698V

7. Jamileh Berenji and Bahman Yousefi on behalf of S.Y., Sunnyvale, California, Court of Federal Claims No: 14-0699V

8. Mariana Glenn Anderson, Anderson, South Carolina, Court of Federal Claims No: 14-0700V

9. Susan Sudman, Edgewater, Maryland, Court of Federal Claims No: 14-0701V

10. Susan Lee, Olney, Maryland, Court of Federal Claims No: 14-0702V

11. Kathleen Wyatt, Beachwood, Ohio, Court of Federal Claims No: 14-0706V

12. Amy L. Rawson on behalf of Michaela Renee Rawson, Somers Point, New Jersey, Court of Federal Claims No: 14-0707V

13. Melody Hawkins on behalf of Timberly Hawkins, Crossett, Arkansas, Court of Federal Claims No: 14-0708V

14. Chad McClellan on behalf of L.M., Herriman, Utah, Court of Federal Claims No: 14-0714V

15. Charles Thomas on behalf of Cheryll Thomas, Deceased, New Hyde Park, New York, Court of Federal Claims No: 14-0715V

16. Carol Lynch, Greensboro, Georgia, Court of Federal Claims No: 14-0716V

17. Robyn Chang on behalf of E.F., Opelika, Alabama, Court of Federal Claims No: 14-0717V

18. Nelson Stanley Cummings, Bridgton, Maine, Court of Federal Claims No: 14-0721V

19. Jorge Rodriguez on behalf of Marlenny Rodriguez, Elmhurst, New York, Court of Federal Claims No: 14-0722V

20. Sara Erickson, Hamilton, New Jersey, Court of Federal Claims No: 14-0724V

21. Karen Sullivan, Calhoun, Georgia, Court of Federal Claims No: 14-0725V

22. Trent Kuzman on behalf of Inea Kuzman, Carlsbad, California, Court of Federal Claims No: 14-0726V

23. Michael Schlaak on behalf of J.N.S., Appleton, Wisconsin, Court of Federal Claims No: 14-0727V

24. Lynn Martin, Manhasset, New York, Court of Federal Claims No: 14-0730V

25. Pansy Downs, Hickory, North Carolina, Court of Federal Claims No: 14-0731V

26. Franklin Jenkins, Boston, Massachusetts, Court of Federal Claims No: 14-0732V

27. Fredrick Richardson, Springfield, Ohio, Court of Federal Claims No: 14-0733V

28. Melissa Hall, Wood River, Nebraska, Court of Federal Claims No: 14-0734V

29. Michael O'Leary, Philadelphia, Pennsylvania, Court of Federal Claims No: 14-0737V

30. Clementine Block, Berkeley Heights, New Jersey, Court of Federal Claims No: 14-0739V

31. Sara Elizabeth Sajbel on behalf of B.B.T. , Deceased, Pueblo, Colorado, Court of Federal Claims No: 14-0741V

32. Jasmine Dark, Houston, Texas, Court of Federal Claims No: 14-0742V

33. Nancy Riggs, Parkersburg, West Virginia, Court of Federal Claims No: 14-0743V

34. Kathleen Farina, Maywood, Illinois, Court of Federal Claims No: 14-0745V

35. Cory Danielson, Colorado Springs, Colorado, Court of Federal Claims No: 14-0746V

36. Nicole Solomon, Avon, Indiana, Court of Federal Claims No: 14-0748V

37. Susan Charbonneau, Milwaukie, Oregon, Court of Federal Claims No: 14-0749V

38. Panagoula E. Bekiaris, Park Ridge, Illinois, Court of Federal Claims No: 14-0750V

39. Melissa Walter, Lakeland, Florida, Court of Federal Claims No: 14-0751V

40. Stanley Brass, Plantation, Florida, Court of Federal Claims No: 14-0752V

41. Elizabeth Manning, Waukesha, Wisconsin, Court of Federal Claims No: 14-0753V

42. Keith Snow on behalf of R.S., Marlborough, Connecticut, Court of Federal Claims No: 14-0754V

43. Daniel Werner, Superior, Colorado, Court of Federal Claims No: 14-0755V

44. Kristina Garrison, Buhl, Idaho, Court of Federal Claims No: 14-0762V

45. Amanda Callahan on behalf of J.B., Decatur, Indiana, Court of Federal Claims No: 14-0763V

46. Michelle Brittain on behalf of S.Y., Dallas, Texas, Court of Federal Claims No: 14-0764V

47. Donaldo Jones-Fogle, Waynesboro, Pennsylvania, Court of Federal Claims No: 14-0765V

48. Joan Rosof, Lafayette, Colorado, Court of Federal Claims No: 14-0766V

49. Jennifer Ratterman, Newport, Kentucky, Court of Federal Claims No: 14-0767V

50. Patty Ferraro on behalf of A.F., Venice, Florida, Court of Federal Claims No: 14-0770V

51. Kenneth Shores, Grants Pass, Oregon, Court of Federal Claims No: 14-0771V

52. Timothy Steinruck on behalf of E.J.S., Deceased, Amherst, New Hampshire, Court of Federal Claims No: 14-0772V

53. Genice Jarman, Naples, Florida, Court of Federal Claims No: 14-0773V

54. Wiley Terry, Sarasota, Florida, Court of Federal Claims No: 14-0774V

55. Jill Buchignani-Calwhite, Tampa, Florida, Court of Federal Claims No: 14-0775V

56. Jamie Rothstein, Philadelphia, Pennsylvania, Court of Federal Claims No: 14-0778V

57. Jaswinder Singh, Carlsbad, California, Court of Federal Claims No: 14-0779V

58. Richard J. Michel, Phillipsburg, New Jersey, Court of Federal Claims No: 14-0781V

59. Kristin Lintz, Bloomington, Indiana, Court of Federal Claims No: 14-0784V

60. Cynthia Hamilton and Robert Hamilton on behalf of R.M.H., New York, New York, Court of Federal Claims No: 14-0785V

61. Cheryl Simmons, Wilmington, Delaware, Court of Federal Claims No: 14-0788V

62. Michelene Falsini, Salem, New Hampshire, Court of Federal Claims No: 14-0789V

63. Michael McCollum, Seaside, California, Court of Federal Claims No: 14-0790V

64. Linda Heeg, Marshfield, Wisconsin, Court of Federal Claims No: 14-0795V

65. Jacqueline Freeman, Lexington, North Carolina, Court of Federal Claims No: 14-0796V

[FR Doc. 2014-23026 Filed 9-25-14; 8:45 am]

BILLING CODE 4165-15-P